DEPARTMENT OF AGRICULTURE

Forest Service

Tonto National Forest; Arizona; Salt River Allotments Vegetative Management EIS

AGENCY: Forest Service, USDA.

ACTION: Notice of extension of public comment period.

DATES: Comments must be received no later than May 8, 2013.

SUMMARY: The Tonto National Forest hereby gives notice that it is extending the public comment period for the Salt River Allotments Vegetative Management Draft Environmental Impact Statement (Draft EIS), which was published in the Federal Register on February 22, 2013, (Volume 78, No. 36) originally for a 45-day comment period. Please see the Notice of Availability of the Draft EIS (78 FR 12310) for more detailed information related to the Salt River Allotments Vegetative Management Draft EIS. In response to requests for additional time, the Forest Service will extend the comment period from April 8, 2013, to May 8, 2013.

Federal, State, tribal, and local governments and other interested parties are requested to comment on the Draft EIS. Comments will be accepted by email to comments-southwestern-tonto@fs.fed.us or by mail to Debbie Cress, Tonto National Forest, 2324 E. McDowell Rd., Phoenix, AZ 85006 (928) 595-2093 or faxed to (602) 225-5295.

FOR FURTHER INFORMATION CONTACT: Debbie Cress at the address listed above or by telephone (928) 595-2093.

Dated: April 1, 2013.
Neil Bosworth,
Forest Supervisor, Tonto National Forest.

[FR Doc. 2013-07928 Filed 4-5-13; 8:45 am]

BILLING CODE 3410-11-M